DEPARTMENT OF TRANSPORTATION

Federal Aviation Administration

Agency Information Collection Activities: Requests for Comments; Clearance of New Approval of Information Collection: Activation of Ice Protection Rule—Flight Manual Requirements

AGENCY: Federal Aviation Administration (FAA), DOT.

ACTION: Notice and request for comments.

SUMMARY: In accordance with the Paperwork Reduction Act of 1995, FAA invites public comments about our intention to request the Office of Management and Budget (OMB) approval for a new information collection. This Paperwork Reduction Act collection is a recordkeeping requirement imposed by the new rule “Part 121 Activation of Ice Protection”. The NPRM for that rule was published in the Federal Register on November 23, 2009 (74 FR 61055).

DATES: Written comments should be submitted by October 24, 2011.

FOR FURTHER INFORMATION CONTACT: Robert Jones on (425) 227 1234, or by e-mail at: Robert.C.Jones@faa.gov.

SUPPLEMENTARY INFORMATION: OMB Control Number: 2120-XXXX.

Title: Activation of Ice Protection Rule—Flight Manual Requirements.

Form Numbers: There are no FAA forms associated with this collection.

Type of Review: Clearance of a new information collection.

Background: To address NTSB safety recommendation A-07-14 as well as the FAA Icing Plan A, and to increase the standard of safety associated with flight in icing conditions, the FAA is issuing a rule for certain airplanes to ensure that pilots will activate their ice protection systems in a timely way. This new rule requires procedures for activation of ice protection, and thus may require operators to revise their airplane flight manual (AFM) or the manual required by § 121.133. Adding these new procedures may require the addition of a page or two to the AFM. This is classified as a record keeping item. No data will be collected. The rule that will require this information is 14 CFR 121.321.

Respondents: 8 airplane operators.

Frequency: One-time requirement.

Estimated Average Burden per Response: 2 hours.

Estimated Total Annual Burden: 16 hours.

ADDRESSES: Send comments to the FAA at the following address: Ms. Carla Scott, Room 336, Federal Aviation Administration, AES-300, 950 L'Enfant Plaza SW., Washington, DC 20024.

Public Comments Invited: You are asked to comment on any aspect of this information collection, including (a) Whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

Issued in Washington, DC, on August 18, 2011.
Carla Scott,
FAA Information Collection Clearance Officer, IT Enterprises Business Services Division, AES-200.

[FR Doc. 2011-21660 Filed 8-23-11; 8:45 am]

BILLING CODE 4910-13-P